DEPARTMENT OF COMMERCE

International Trade Administration

A-570-887

Tetrahydrofurfuryl Alcohol from the People's Republic of China: Continuation of the Antidumping Duty Order

AGENCY: Import Administration, International Trade Administration, Department of Commerce.

EFFECTIVE DATE: December 16, 2009.

SUMMARY: As a result of the determinations by the Department of Commerce (“Department”) and the International Trade Commission (“ITC”) that revocation of the antidumping duty order on Tetrahydrofurfuryl Alcohol (“THFA”) from the People's Republic of China (“PRC”) would likely lead to a continuation or recurrence of dumping and material injury to an industry in the United States, the Department is publishing a notice of continuation of the antidumping duty order.

FOR FURTHER INFORMATION CONTACT: Frances Veith, AD/CVD Operations, Import Administration, International Trade Administration, U.S. Department of Commerce, 14th Street & Constitution Avenue, NW, Washington, DC 20230; telephone: (202) 482-4295.

SUPPLEMENTARY INFORMATION: On July 1, 2009, the Department initiated a sunset review of the antidumping duty order on THFA from the PRC pursuant to section 751(c) of the Tariff Act of 1930, as amended (“Act”). See Initiation of Five-year (“Sunset”) Review, 74 FR 31412 (July 1, 2009).

As a result of its review, the Department determined that revocation of the antidumping duty order on THFA from the PRC would likely lead to a continuation or recurrence of dumping and, therefore, notified the ITC of the magnitude of the margins likely to prevail should the order be revoked. See Tetrahydrofurfuryl Alcohol from the People's Republic of China: Final Results of the Expedited Sunset Review of the Antidumping Duty Order, 74 FR 57290 (November 5, 2009).

On November 30, 2009, the ITC determined, pursuant to section 751(c) of the Act, that revocation of the antidumping duty order on THFA from the PRC would likely lead to a continuation or recurrence of material injury to an industry in the United States within the reasonably foreseeable future. See USITC Publication 4118 (November 2009), and Tetrahydrofurfuryl Alcohol from China, 74 FR 63788 (December 4, 2009).

Scope of the Order

The product covered by this order is tetrahydrofurfuryl alcohol (C5H10O2) ( THFA''). THFA, a primary alcohol, is a clear, water white to pale yellow liquid. THFA is a member of the heterocyclic compounds known as furans and is miscible with water and soluble in many common organic solvents. THFA is currently classifiable in the Harmonized Tariff Schedules of the United States ( HTSUS'') under subheading 2932.13.00.00. Although the HTS subheadings are provided for convenience and for customs purposes, the Department's written description of the merchandise subject to the order is dispositive.

Continuation of the Order

As a result of these determinations by the Department and the ITC that revocation of the antidumping duty order on THFA would likely lead to a continuation or recurrence of dumping and material injury to an industry in the United States, pursuant to section 751(d)(2) of the Act, the Department hereby orders the continuation of the antidumping order on THFA from the PRC. United States Customs and Border Protection will continue to collect antidumping duty cash deposits at the rates in effect at the time of entry for all imports of subject merchandise. The effective date of the continuation of the order will be the date of publication in the Federal Register of this notice of continuation. Pursuant to section 751(c)(2) of the Act, the Department intends to initiate the next five-year review of the order not later than 30 days prior to the fifth anniversary of the effective date of continuation.This five-year (sunset) review and this notice are in accordance with section 751(c) of the Act and published pursuant to section 777(i)(1) of the Act.

Dated: December 9, 2009.
Carole A. Showers,
Acting Deputy Assistant Secretary for Import Administration.

[FR Doc. E9-29908 Filed 12-15-09; 8:45 am]

BILLING CODE 3510-DS-S